DEPARTMENT OF ENERGY

Federal Energy Regulatory Commission

[Docket No. EL05-60-000, et al.]

PJM Interconnection, L.L.C., et al.; Electric Rate and Corporate Filings

April 15, 2005.

The following filings have been made with the Commission. The filings are listed in ascending order within each docket classification.

1. PJM Interconnection, L.L.C.

[Docket No. EL05-60-000]

Take notice that on March 28, 2005, PJM Interconnection, L.L.C., submitted its response regarding the existing re-study provisions of the PJM Open Access Transmission Tariff pursuant to the Commission's February 10, 2005 Order in PJM Interconnection, L.L.C., 110 FERC ¶ 61,099 (2005).

Comment Date: 5 p.m. Eastern Time on May 6, 2005.

2. LG&E Energy Marketing Inc., Louisville Gas & Electric Company & Kentucky Utilities Company, WKE Station Two Inc., Western Kentucky Energy Corporation

[Docket No. ER94-1188-035, ER98-4540-004, ER99-1623-004, ER98-1278-010, ER98-1279-006]

Take notice that, on April 8, 2005 and April 13, 2005, LG&E Energy Marketing Inc., Louisville Gas & Electric Company, Kentucky Utilities Company, WKE Station Two Inc., and Western Kentucky Energy Corporation (collectively, the LG&E Parties) submitted responses to the Commission's March 8, 2005 deficiency letter seeking additional information regarding LG&E Parties' November 19, 2004 filing in these dockets.

Comment Date: 5 p.m. Eastern Time on April 25, 2005.

3. Infinite Energy, Inc.

[Docket No. ER97-3923-002]

Take notice that on April 7, 2005, Infinite Energy, Inc. (Infinite) submitted for filing its triennial updated market analysis and revisions to its FERC Rate Schedule No. 1 to incorporate the Market Behavior Rules set forth in the Commission's orders in Investigation of Terms and Conditions of Public Utility Market-Based Rate Authorizations, 105 FERC ¶ 61,218 (92003, order on reh'g, 107 FERC ¶ 61,175 (2004). Infinite states that the tariff has also been revised to reflect the requirements of Commission Order Nos. 614 and 652. Infinite requests an effective date of May 1, 2005.

Comment Date: 5 p.m. Eastern Time on April 28, 2005.

4. Spokane Energy, LLC

[Docket No. ER98-4336-013]

Take notice that on April 7, 2005, Spokane Energy, LLC submitted substitute tariff sheets to its April 4, 2005 filing in Docket No. ER98-4336-012 of proposed revisions to its First Revised Rate Schedule FERC No. 1.

Comment Date: 5 p.m. Eastern Time on April 28, 2005.

5. Madison Gas and Electric Company

[Docket No. ER00-586-006]

Take notice that on April 7, 2005, Madison Gas and Electric Company (MGE) submitted a compliance filing pursuant to the Commission's order issued March 25, 2005 in Madison Gas and Electric Company, 110 FERC ¶ 61,347 (2005).

Comment Date: 5 p.m. Eastern Time on April 28, 2005.

6. Cedar Brakes I, L.L.C.

[Docket No. ER00-2885-005]

Take notice that on April 7, 2005, Cedar Brakes I, L.L.C. filed Original Sheet No. 4 of its First Revised Rate Schedule FERC No. 1 to implement the requirements of Order No. 652, Reporting Requirement for Changes in Status for Public Utilities With Market-Based Rate Authority, 110 FERC ¶ 61,097 (2005).

Comment Date: 5 p.m. Eastern Time on April 28, 2005.

7. Cedar Brakes II, L.L.C.

[Docket No. ER01-2765-004]

Take notice that on April 7, 2005, Cedar Brakes II, L.L.C., filed Original Sheet No. 4 of its First Revised Rate Schedule FERC No. 1 to implement the requirements of Order No. 652, Reporting Requirement for Changes in Status for Public Utilities With Market-Based Rate Authority, 110 FERC ¶ 61,097 (2005).

Comment Date: 5 p.m. Eastern Time on April 28, 2005.

8. Mohawk River Funding IV, L.L.C.

[Docket No. ER02-1582-003]

Take notice that on April 7, 2005, Mohawk River Funding IV, L.L.C., filed Original Sheet No. 4 of its Second Revised Rate Schedule FERC No. 1 to implement the requirements of Order No. 652, Reporting Requirement for Changes in Status for Public Utilities With Market-Based Rate Authority, 110 FERC ¶ 61,097 (2005).

Comment Date: 5 p.m. Eastern Time on April 28, 2005.

9. Cabazon Wind Partners, LLC; Rock River I, LLC; Whitewater Hill Wind Partners, LLC

[Docket Nos. ER02-1695-001, ER01-2742-004, ER02-2309-001]

Take notice that on April 5, 2005, Cabazon Wind Partners, LLC (Cabazon), Rock River I, LLC (Rock River), and Whitewater Hill Wind Partners, LLC (Whitewater) (collectively, Project Companies) submitted a notice of change in status describing a change in the upstream ownership of the Project Companies and a petition for acceptance of revised market-based rate tariffs. Each of the Project Companies revised its FERC Electric Tariff, Original Volume No. 1 to reflect a new issuing officer and to incorporate the Commission's reporting requirement for changes in status for public utilities with market-based rate authority. In addition, Cabazon and Whitewater revised their tariffs to include the Commission's Market Behavior Rules as Original Sheet Nos. 3 and 4.

The Project Companies state that copies of the filing were served upon the Project Companies' jurisdictional customers, their respective state public service commissions, and persons listed on the official service lists compiled by the Secretary in the above-captioned dockets.

Comment Date: 5 p.m. Eastern Time on April 28, 2005.

10. Utility Contract Funding, L.L.C.

[Docket No. ER02-2102-004]

Take notice that on April 7, 2005, Utility Contract Funding, L.L.C. filed Original Sheet No. 4 of its Second Revised Rate Schedule FERC No. 1 to implement the requirements of Order No. 652, Reporting Requirement for Changes in Status for Public Utilities with Market-Based Rate Authority, 110 FERC ¶ 61,097 (2005).

Comment Date: 5 p.m. Eastern Time on April 28, 2005.

11. Backbone Mountain Windpower, LLC; Badger Windpower, LLC; Bayswater Peaking Facility, LLC; Blythe Energy, LLC; Calhoun Power Company I, LLC; Doswell Limited Partnership; ESI Vansycle Partners, L.P.; Florida Power & Light Co.; FPL Energy Cape, LLC; FPL Energy Hancock County Wind, LLC; FPL Energy Maine Hydro, Inc.; FPL Energy Marcus Hook, L.P.; FPL Energy Mason, LLC; FPL Energy MH 50, LP; FPL Energy New Mexico Wind, LLC; FPL Energy Pennsylvania Wind, LLC; FPL Energy Power Marketing, Inc.; FPL Energy Seabrook, LLC; FPL Energy Vansycle, LLC; FPL Energy Wyman, LLC; FPL Energy Wyman IV, LLC; Gray County Wind Energy, LLC; Hawkeye Power Partners, LLC; High Winds, LLC; Jamaica Bay Peaking Facility, LLC; Lake Benton Power Partners II, LLC; Mill Run Windpower, LLC; Somerset Windpower, LLC; West Texas Wind Energy Partners, LP

[Docket Nos. ER02-2559-004, ER01-1071-005, ER02-669-004, ER02-2018-004, ER01-2074-005, ER90-80-003, ER98-2494-006, ER97-3359-008, ER00-3068-005, ER03-34-004, ER98-3511-009, ER02-1903-003, ER98-3562-008, ER99-2917-007, ER03-179-004, ER02-2166-004, ER98-3566-012, ER02-1838-003, ER01-838-005, ER98-3563-009, ER98-3564-009, ER01-1972-005, ER98-2076-008, ER03-155-003, ER03-623-005, ER98-4222-004, ER01-1710-005, ER01-2139-006, ER98-1965-005]

Take notice that on April 7, 2005, Backbone Mountain Windpower, LLC, Badger Windpower, LLC, Bayswater Peaking Facility, LLC, Blythe Energy, LLC, Calhoun Power Company I, LLC, Doswell Limited Partnership, ESI Vansycle Partners, L.P., Florida Power & Light Company, FPL Energy Cape, LLC, FPL Energy Hancock County Wind, LLC, FPL Energy Maine Hydro, Inc., FPL Energy Marcus Hook, L.P., FPL Energy Mason, LLC, FPL Energy MH 50, LP, FPL Energy New Mexico Wind, LLC, FPL Energy Pennsylvania Wind, LLC, FPL Energy Power Marketing, Inc., FPL Energy Rhode Island Energy, L.P., FPL Energy Seabrook, LLC, FPL Energy Vansycle, LLC, FPL Energy Wyman, LLC, FPL Energy Wyman IV, LLC, Gray County Wind Energy, LLC, Hawkeye Power Partners, LLC, High Winds, LLC, Jamaica Bay Peaking Facility, LLC, Lake Benton Power Partners II, LLC, Mill Run Windpower, LLC, Somerset Windpower, LLC, and West Texas Wind Energy Partners, LP (collectively, Applicants) submitted a revised market-based rate three-year update filing pursuant to the Commission Order Implementing New Generation Market Power Analysis and Mitigation Procedures, issued May 13, 2004 in Docket Nos. ER04-1406-001, et al., 107 FERC ¶ 61,168 (2004). Applicants state that the purpose of this filing is to correct certain data errors that have been identified since the compliance filing was submitted on December 22, 2004.

Applicants state that copies of the filing were served on parties on the official service list in the above-captioned proceedings, the Florida Public Service Commission and the New Hampshire Public Utilities Commission.

Comment Date: 5 p.m. Eastern Time on April 28, 2005.

12. New York Independent System Operator, Inc.

[Docket No. ER03-647-001]

Take notice that on April 1, 2005, the New York Independent System Operator, Inc. submitted a compliance report on the status of resource adequacy markets group pursuant to the Commission's order issued October 7, 2004 in Docket No. ER03-647-005, 109 FERC ¶ 61,023 (2004).

Comment Date: 5 p.m. Eastern Time on April 25, 2005.

13. NorthWestern Energy

[Docket No. ER04-1106-003]

Take notice that on April 7, 2005, NorthWestern submitted a compliance filing pursuant to the Commission's order issued March 8, 2005 in Docket No. ER04-1106-000, et al., 110 FERC ¶ 61,264 (2005).

Comment Date: 5 p.m. Eastern Time on April 28, 2005.

14. New Dominion Energy Cooperative

[Docket No. ER05-20-002]

Take notice that on April 7, 2005, New Dominion Energy Cooperative submitted a compliance filing pursuant to the Commission's order issued March 8, 2005 in Docket No. ER05-20-000, et al., 110 FERC ¶ 61,275 (2005).

Comment Date: 5 p.m. Eastern Time on April 28, 2005.

15. Georgia Energy Cooperative

[Docket No. ER05-349-002]

Take notice that on April 7, 2005, Georgia Energy Cooperative (An Electric Membership Corporation) submitted a compliance filing pursuant to the Commission's order issued March 24, 2005 in Georgia Energy Cooperative, 110 FERC ¶ 61,328 (2005).

Comment Date: 5 p.m. Eastern Time on April 28, 2005.

16. Arroyo Energy LP

[Docket No. ER05-375-002]

Take notice that on April 7, 2005, Arroyo Energy LP filed Original Sheet No. 5 of its Rate Schedule FERC No. 1 to implement the requirements of Order No. 652, Reporting Requirement for Changes in Status for Public Utilities with Market-Based Rate Authority, 110 FERC ¶ 61,097 (2005).

Comment Date: 5 p.m. Eastern Time on April 28, 2005.

17. Victoria International LTD

[Docket No. ER05-757-001]

Take notice that on April 7, 2005, Victoria International LTD. (VIL) submitted Exhibit A and VIL's Electric Rate Schedule No. 1, which were inadvertently omitted from VIL's March 31, 2005 filing in Docket No. ER05-575-000.

Comment Date: 5 p.m. Eastern Time on April 28, 2005.

18. Pacific Gas and Electric Company

[Docket No. ER05-790-000]

Take notice that on April 7, 2005, Pacific Gas and Electric Company (PG&E) tendered for filing a Wholesale Distribution Tariff Service Agreement between PG&E and GPU Solar.

PG&E states that copies of the filing have been e-served on GPU Solar, the California Independent System Operator Corporation and the California Public Utilities Commission.

Comment Date: 5 p.m. Eastern Time on April 28, 2005.

19. Southern California Edison Company

[Docket No. ER05-792-000]

Take notice that on April 7, 2005, Southern California Edison Company (SCE) tendered for filing a Letter Agreement, Service Agreement No. 38 under SCE's Transmission Owner Tariff, FERC Electric Tariff, Second Revised Volume No. 6, between SCE and PPM Energy, Inc. (PPM).

SCE states that copies of the filing were served on the Public Utilities Commission of the State of California and PPM.

Comment Date: 5 p.m. Eastern Time on April 28, 2005.

20. California Independent System Operator Corporation

[Docket No. ER05-793-000]

Take notice that on April 7, 2005, the California Independent System Operator Corporation (CAISO) submitted an informational filing in accordance with Article IX, section B of the Stipulation and Agreement approved by the Commission on May 28, 1999, California Independent System Operator Corp., 87 FERC ¶ 61,250 (1999) (Stipulation and Agreement). CAISO states that this provision requires the CAISO to provide on a confidential basis to the Commission (1) information regarding any notice from an RMR Unit requesting a change of Condition; (2) the date the chosen Condition will begin; and (3) if the change is from Condition 2, the applicable level of Fixed Option Payment. CAISO further states as required by the provision, it has provided notice of the changes of condition described in the informational filing (subject to the applicable Non-Disclosure and Confidentiality Agreement in the RMR Contract) to the designated RMR contact persons at the California Public Utilities Commission, the California Electricity Oversight Board, the applicable Responsible Utilities, and the relevant RMR Owners.

Comment Date: 5 p.m. Eastern Time on April 28, 2005.

21. Midwest Independent Transmission System Operator, Inc.

[Docket No. ER05-794-000]

Take notice that on April 7, 2005, the Midwest Independent Transmission System Operator, Inc. (Midwest ISO) submitted revisions to the Midwest ISO's Open Access Transmission and Energy Markets Tariff, Attachment L Credit Policy. The Midwest ISO has requested April 8, 2005, effective date.

The Midwest ISO states that it has electronically served a copy of this filing, with attachments, upon all Tariff Customers under the EMT, Midwest ISO Members, Member representatives of Transmission Owners and Non-Transmission Owners, the Midwest ISO Advisory Committee participants, as well as all state commissions within the region. Midwest further states that the filing has been electronically posted on the Midwest ISO's Web site at http://www.midwestiso.org under the heading “Filings to FERC” for other interested parties in this matter. The Midwest ISO will provide hard copies to any interested parties upon request.

Comment Date: 5 p.m. Eastern Time on April 28, 2005.

22. ISO New England Inc.

[Docket No. ER05-795-000]

Take notice that on April 7, 2005, ISO New England Inc. (ISO) and the New England Power Pool (NEPOOL) jointly submitted a a package of proposed market changes to effectuate Phase I of the Ancillary Services Market project. The ISO and NEPOOL request an effective date on or before October 1, 2005.

The ISO and NEPOOL state that copies of the filing were sent to the NEPOOL Participants and the New England state governors and regulatory commissions.

Comment Date: 5 p.m. Eastern Time on April 28, 2005.

23. Midwest Independent Transmission System, Inc.

[Docket No. ER05-813-000]

Take notice that on April 5, 2005, the Midwest Independent Transmission System Operator, Inc. (Midwest ISO) submitted a filing to confirm that the current version of the North American Electric Reliability Council's Transmission Loading Relief procedures are incorporated in Attachment Q of the Midwest ISO's Open Access Transmission Energy Markets Tariff, pursuant to the Commission's order issued March 30, 2005 in North American Electric Reliability Council, 110 FERC ¶ 61,288 (2005).

Comment Date: 5 p.m. Eastern Time on April 26, 2005.

24. PJM Interconnection, L.L.C.

[Docket No. ES05-28-000]

Take notice that on April 8, 2005, PJM Interconnection, L.L.C. (PJM) submitted an application pursuant to section 204 of the Federal Power Act. PJM is requesting that the Commission authorize the continued borrowing of funds from a long-term unsecured promissory note for a revolving line of credit to National Cooperative Services Corporation (NCSC) in an amount not to exceed $50 million.

PJM also requests a waiver from the Commission's competitive bidding and negotiated placement requirements at 18 CFR 34.2.

Comment Date: 5 p.m. Eastern Time on April 20, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-1903 Filed 4-21-05; 8:45 am]

BILLING CODE 6717-01-P